DEPARTMENT OF THE INTERIOR

Bureau of Land Management

[ID-300-1110-PI]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Idaho Falls, Idaho on February 22, 2007. The RAC has also reserved the right to continue the meeting February 23, if not all the business of the first day is concluded. The primary focus of the meeting will be on the Recreation Enhancement Act provisions that in Idaho require changes in fee structures on Forest Service and BLM lands to come forward at a meeting of the RAC. RAC members will also receive a briefing on the recently-released Pocatello Draft Resource Management Plan and EIS, a brief discussion on BLM weed programs in the District, and an update on the ongoing Snake River Activity Plan. Other topics will be scheduled as appropriate.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: January 9, 2007.
David Howell,
RAC Coordinator.

[FR Doc. E7-398 Filed 1-12-07; 8:45 am]

BILLING CODE 4310-GG-P